FEDERAL COMMUNICATIONS COMMISSION

47 CFR Part 73

[DA 00-1238, MM Docket No. 00-103, RM-9878]

Digital Television Broadcast Service; Killeen, TX

AGENCY: Federal Communications Commission.

ACTION: Proposed rule.

SUMMARY: The Commission requests comments on a petition filed by White Knight Broadcasting of Killeen License Corporation, licensee of Station KAKW(TV), NTSC Channel 62, Killeen, Texas, requesting the substitution of DTV Channel 13 for its assigned DTV Channel 23. DTV Channel 13 can be allotted to Killeen, Texas, in compliance with the principle community coverage requirements of Section 73.625(a) at reference coordinates (30-43-33 N and 97-59-24 W). As requested, we propose to allot DTV Channel 13 to Killeen with a power of 39.4 and a height above average terrain (HAAT) of 553 meters.

DATES: Comments must be filed on or before July 31, 2000, and reply comments on or before August 15, 2000.

ADDRESSES: Federal Communications Commission, 445 12th Street, SW, Room TW-A325, Washington, DC 20554. In addition to filing comments with the FCC, interested parties should serve the petitioner, or its counsel or consultant, as follows: Kathryn R. Schmeltzer, David S. Konczal, Fisher, Wayland, Cooper, Leader & Zaragoza, L.L.P., 2001 Pennsylvania Avenue, NW, Washington, DC 20006 (Counsel for White Knight Broadcasting of Killeen License Corporation).

FOR FURTHER INFORMATION CONTACT: Pam Blumenthal, Mass Media Bureau, (202) 418-1600.

SUPPLEMENTARY INFORMATION: This is a synopsis of the Commission's Notice of Proposed Rule Making, MM Docket No. 00-103, adopted June 7, 2000, and released June 8, 2000. The full text of this Commission decision is available for inspection and copying during normal business hours in the FCC Reference Center 445 12th Street, SW, Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
Barbara A. Kreisman,
Chief, Video Services Division, Mass Media Bureau.

[FR Doc. 00-15266 Filed 6-15-00; 8:45 am]

BILLING CODE 6712-01-U